DEPARTMENT OF DEFENSE

Department of the Navy

Notice of Availability and Notice of Virtual Public Meetings for Disposal of Decommissioned, Defueled Ex-Enterprise (CVN 65) and Its Associated Naval Reactor Plants Draft Environmental Impact Statement/Overseas Environmental Impact Statement

AGENCY: Department of the Navy (DoN), Department of Defense (DoD).

ACTION: Notice.

SUMMARY: Pursuant to the National Environmental Policy Act (NEPA) of 1969, Council on Environmental Quality implementing regulations and a Presidential Executive Order, DoN, with United States (U.S.) Department of Energy (DOE) as a cooperating agency, has prepared and filed with U.S. Environmental Protection Agency (EPA) a Draft Environmental Impact Statement/Overseas Environmental Impact Statement (EIS/OEIS) for the Disposal of Decommissioned, Defueled Ex-Enterprise (CVN 65) and its Associated Naval Reactor Plants. The Draft EIS/OEIS includes an analysis of the potential environmental impacts associated with alternatives for the disposal of ex-Enterprise, including its defueled reactor plants. The Proposed Action executes the statutory responsibilities of the Naval Nuclear Propulsion Program (NNPP) and Chief of Naval Operations (CNO) policy for inactive ships stricken from the Naval Vessel Register and designated for disposal by dismantling in order to reduce DoN inactive ship inventory and eliminate costs associated with maintaining the ship in a safe stowage condition.

DATES: The 45-day public comment period begins August 19, 2022, and ends October 3, 2022. Virtual public meetings will be held on September 20 and September 22, 2022 to provide an overview of the Draft EIS/OEIS and to answer questions from the public. All public comments on the Draft EIS/OEIS are due by the end of the day on October 3, 2022.

Two virtual public meetings will be held as follows:

1. September 20, 2022, from 4 to 5 p.m. CDT;

2. September 22, 2022, from 4 to 5 p.m. CDT.

Questions concerning the Draft EIS/OEIS for discussion with DoN representatives at the virtual public meetings can be submitted between September 12 and September 21.

ADDRESSES: Email questions for the virtual public meetings to: info@carrierdisposaleis.com or complete the form at: http://www.carrierdisposaleis.com.

Comments on the Draft EIS/OEIS may be provided by mail and through the project website at: http://www.carrierdisposaleis.com. Mailed comments must be postmarked no later than October 3, 2022, and mailed to: Office of Congressional and Public Affairs; Attn. Ex-Enterprise CVN 65 Draft EIS/OEIS; Puget Sound Naval Shipyard & Intermediate Maintenance Facility; 1400 Farragut Ave., Stop 2072; Bremerton, WA 98314-2072 for consideration in the preparation of the Final EIS/OEIS.

DoN distributed the Draft EIS/OEIS to government agencies with which DoN is consulting and to federally recognized tribes and other stakeholders. The Draft EIS/OEIS is available for public review on the project website at http://www.carrierdisposaleis.com and at these public libraries:

1. Kitsap Regional Library, Downtown Bremerton Branch, 612 Fifth St., Bremerton, WA 98337.

2. Richland Public Library, 955 Northgate Dr., Richland, WA 99352.

3. Hampton Public Library, 4207 Victoria Blvd., Hampton, VA 23669.

4. Brownsville Public Library, Main Branch, 2600 Central Blvd., Brownsville, TX 78520.

5. Brownsville Public Library, Southmost Branch, 4320 Southmost Blvd., Brownsville, TX 78521.

6. Ben May Main Library, 701 Government St., Mobile, AL 36602.

Additional information on the virtual public meetings and comment submittal will be available on the project website at: http://www.carrierdisposaleis.com/vpm. An audio-only option will also be available.

FOR FURTHER INFORMATION CONTACT: For further information, contact Anna Taylor, Office of Congressional and Public Affairs; Attn. Ex-Enterprise CVN 65 Draft EIS/OEIS; Puget Sound Naval Shipyard & Intermediate Maintenance Facility; 1400 Farragut Ave., Stop 2072; Bremerton, WA 98314-2072, 360-476-7111, or project website: http://www.carrierdisposaleis.com.

SUPPLEMENTARY INFORMATION: This draft Environmental Impact Statement was prepared and filed with the EPA pursuant to the National Environmental Policy Act (NEPA) of 1969, Council on Environmental Quality implementing regulations and a Presidential Executive Order 12114, DoN, with United States (U.S.) Department of Energy (DOE) as a cooperating agency.

DoN action proponent is the Director, Naval Nuclear Propulsion (CNO N00N). The purpose of the Proposed Action is to reduce DoN inactive ship inventory, eliminate costs associated with maintaining the ship in a safe stowage condition, and dispose of legacy radiological and hazardous wastes in an environmentally responsible manner, while meeting operational needs of DoN.

DoN is considering the following alternatives to satisfy the purpose of and need for the Proposed Action:

Alternative 1—Single Reactor Compartment Packages: This alternative involves the partial dismantlement and removal of non-radiological portions of ex-Enterprise at a commercial dismantlement facility. The remainder, including the defueled reactor plants, would be transported around South America by heavy-lift ship to Puget Sound Naval Shipyard and Intermediate Maintenance Facility (PSNS & IMF) for recycling and construction of eight single reactor compartment packages. The reactor compartment packages would be shipped by barge to the Port of Benton near the DOE Hanford Site and by high-capacity transporter to the DOE Hanford Site for disposal.

Alternative 2—Dual Reactor Compartment Packages: This alternative is the same as Alternative 1, except four dual reactor compartment packages would be constructed rather than eight single reactor compartment packages. The packages would be heavier and larger than reactor compartment packages currently transported to the DOE Hanford Site under the existing DoN program, and this alternative would require modifications to the Port of Benton barge slip and roadway to the DOE Hanford Site.

Alternative 3—Commercial Dismantlement: Under this alternative, DoN would contract with commercial industry to dismantle ex-Enterprise, including its defueled reactor plants, and dispose of the reactor plant waste at authorized facilities. DoN analyzed environmental impacts associated with three locations for commercial dismantlement: the Hampton Roads Metropolitan Area, Virginia; Brownsville, Texas; and Mobile, Alabama.

DoN also evaluated the No Action Alternative, which includes waterborne storage of ex-Enterprise and periodic maintenance to ensure storage continues in a safe and environmentally responsible manner.

DoN evaluated the potential impacts on environmental resources resulting from activities included in the three action alternatives and the No Action Alternative in accordance with 40 Code of Federal Regulations § 1502.16. Direct, indirect, and cumulative impacts were analyzed. DoN does not anticipate significant environmental impacts resulting from the proposed alternatives with the implementation of best management practices and mitigation measures.

DoN identified Alternative 3—Commercial Dismantlement as its preferred alternative because it would keep the specially qualified and trained PSNS & IMF workforce focused on high-priority fleet maintenance work and the submarine inactivation and reactor compartment package work that are already part of the PSNS & IMF workload, would provide cost benefits to the U.S. taxpayer, would be completed in the shortest duration, and would not result in significant environmental impacts. The preferred alternative does not result in any decrease in workforce at PSNS & IMF.

DoN will hold virtual public meetings to discuss the Proposed Action, alternatives, and the draft environmental impact analysis, and to answer questions from the public. DoN has assessed that virtual public meetings are the best format to meet statutory requirements under NEPA while mitigating COVID-19 risks.

The public involvement process is helpful in identifying public concerns and local issues to be considered during the development of the EIS/OEIS and assessing the accuracy and adequacy of the environmental impact analysis. Federal, state, and local agencies; federally recognized tribes and tribal groups; nongovernmental organizations; and interested persons are encouraged to provide comments to DoN that are substantive to the analysis of potential impacts on environmental resources. All comments provided electronically via the project website or mailed to the address provided in the ADDRESSES section will be taken into consideration during the development of the Final EIS/OEIS.

Dated: August 10, 2022.
J. M. Pike,
Commander, Judge Advocate General's Corps, U.S. Navy, Federal Register Liaison Officer.

[FR Doc. 2022-17502 Filed 8-18-22; 8:45 am]

BILLING CODE P